DEPARTMENT OF ENERGY

Federal Energy Regulatory Commission

[Project No. 2607-016]

Spencer Mountain Hydropower, LLC; Notice Soliciting Scoping Comments

Take notice that the following hydroelectric application has been filed with the Commission and is available for public inspection.

a. Type of Application: Subsequent License.

b. Project No.: P-2607-016.

c. Date Filed: June 26, 2023.

d. Applicant: Spencer Mountain Hydropower, LLC (SMH).

e. Name of Project: Spencer Mountain Hydroelectric Project (Spencer Mountain Project).

f. Location: On the South Fork Catawba River, near the town of Gastonia, in Gaston County, North Carolina.

g. Filed Pursuant to: Federal Power Act 16 U.S.C. 791(a)-825(r).

h. Applicant Contact: Mr. Kevin Edwards and Mrs. Amy Edwards, Spencer Mountain Hydropower, LLC, 916 Comer Rd., Stoneville, NC 27048; Phone at (336) 589-6138, or smhydro@pht1.com.

i. FERC Contact: Michael Spencer at (202) 502-6093; or michael.spencer@ferc.gov.

j. Deadline for filing scoping comments: March 15, 2024.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the following on the first page: Spencer Mountain Hydroelectric Project (P-2607-016).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The application is not ready for environmental analysis at this time.

l. The existing Spencer Mountain Project consists of: (1) a 12-foot-high, 636-foot-long masonry and rubble dam with a crest elevation of 634.7 feet mean sea level (msl); (2) a 68-acre reservoir with a storage capacity of 166 acre-feet; (3) a 58.9-foot-long canal headwork, consisting of four 6-foot-wide gates; (4) a 53.8-foot-long canal spillway connected to the downstream side of the canal headwork; (5) a 30-foot-wide, 10-foot-deep, 3,644-foot-long open earthen canal; (6) a 32-foot-wide trash rack at the powerhouse forebay with 2.5-inch clear bar-spacing; (7) a 36-inch-diameter bypass pipe; (8) a 22.5-foot-high, 49.5-foot-long, 48.75-foot-wide powerhouse containing two Francis-type generating units with a total capacity of 0.64 megawatts; (9) a concrete lined tailrace discharging flows back into the South Fork Catawba River; (10) a substation containing a 2.3/44-kilovolt (kV) transformer and interconnection to Duke Energy's 44 kV transmission line; and (11) appurtenant facilities. The project creates a 3,644-foot-long bypassed reach of the South Fork Catawba River.

The current license requires SMH to operate in a run-of-river mode with a continuous minimum flow of 76 cubic feet per second (cfs), or inflow, whichever is less, released to the bypassed reach. SMH proposes no changes to the project facilities or operations.¹ The project has an average annual generation of 4,064 megawatt-hours.

¹ SMH's non-capacity amendment to replace the horizontal Unit 1 turbine and generator with a vertical shaft turbine and generator of the same generating capacity was approved on June 11, 2020 (See 171 FERC ¶ 62,126 (2020)). The replacement of Unit 1 is pending. (See Exhibit A, Project Description and Operation in the FLA, filed June 26, 2023).

SMP proposes to continue operating the project in run-of-river mode, and to continue releasing a continuous minimum flow of 76 cfs to the bypassed reach.

m. Copies of the application can be viewed on the Commission's website at https://www.ferc.gov using the “eLibrary” link. Enter the project's docket number excluding the last three digits in the docket number field to access the document. For assistance, contact FERC Online Support at FERCOnlineSupport@ferc.gov.

You may also register at https://ferconline.ferc.gov/FERCOnline.aspx to be notified via email of new filings and issuances related to this or other pending projects. For assistance, please contact FERC Online Support at FERCOnlineSupport@ferc.gov.

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

o. Scoping Process. Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued February 13, 2024.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: February 14, 2024.
Debbie-Anne A. Reese,
Acting Secretary.

[FR Doc. 2024-03492 Filed 2-20-24; 8:45 am]

BILLING CODE 6717-01-P